DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than August 17, 2009.

Interested persons are invited to submit written comments regarding the subject matter of the investigations to the Director, Division of Trade Adjustment Assistance, at the address shown below, not later than August 17, 2009.

The petitions filed in this case are available for inspection at the Division of Trade Adjustment Assistance, Employment and Training Administration, U.S. Department of Labor, Room N-5428, 200 Constitution Avenue, NW., Washington, DC 20210.

Signed at Washington, DC, this 27th day of July 2009.
Linda G. Poole,
Certifying Officer, Division Trade Adjustment Assistance.

APPENDIX
[TAA petitions instituted between 5/18/09 and 5/22/09]
TA-W | Subject firm (petitioners) | Location | Date of institution | Date of petition
70001 | Syracuse China Company (Comp) | Syracuse, NY | 05/18/09 | 05/18/09
70002 | Fairfield Chair Plant 2 (Wkrs) | Lenoir, NC | 05/18/09 | 05/18/09
70003 | EFTEC North America, LLC (UAW) | Dayton, OH | 05/18/09 | 05/18/09
70004 | Baralex Sherman, LLC (State) | Stacyville, ME | 05/18/09 | 05/18/09
70005 | The Mazder Corporation (Wkrs) | Dayton, OH | 05/18/09 | 05/18/09
70006 | Maine Woods (State) | Portage Lake, ME | 05/18/09 | 05/18/09
70007 | Prime Tanning Company (State) | Hartland, ME | 05/18/09 | 05/18/09
70008 | Formtek (State) | Clinton, ME | 05/18/09 | 05/18/09
70009 | PM Kelly (State) | Ashland, ME | 05/18/09 | 05/18/09
70010 | American Pride, LLC (State) | Guilford, ME | 05/18/09 | 05/18/09
70011 | C&W Industries, Inc. (Comp) | Malden, MA | 05/18/09 | 05/18/09
70012 | Sappi Fine Paper N.A. (State) | Westbrook, ME | 05/18/09 | 05/18/09
70013 | Russell Brands, LLC (Comp) | Wetumpka, AL | 05/18/09 | 05/18/09
70014 | Leviton Manufacturing Company, Inc. (Comp) | Warwick, RI | 05/18/09 | 05/18/09
70015F | Jim C. Hamer Company (Comp) | Mt. Hope, WV | 05/18/09 | 05/18/09
70015E | Jim C. Hamer Company (Comp) | Mt. Hope, WV | 05/18/09 | 05/18/09
70015D | Jim C. Hamer Company (Comp) | Elkins, WV | 05/18/09 | 05/18/09
70015C | Jim C. Hamer Company (Comp) | Morgantown Mill, WV | 05/18/09 | 05/18/09
70015A | Jim C. Hamer Company (Comp) | Prestonsburg, KY | 05/18/09 | 05/18/09
70015B | Jim C. Hamer Company (Comp) | Webster Springs, WV | 05/18/09 | 05/18/09
70015 | Jim C. Hamer Company (Comp) | Kenova, WV | 05/18/09 | 05/18/09
70016 | Multi-Plex (Wkrs) | Howe, IN | 05/18/09 | 05/18/09
70017 | Century Aluminum of West Virginia, Inc. (USW) | Ravenswood, WV | 05/18/09 | 05/18/09
70018 | Auto Truck Transport USA, Inc. (Wkrs) | Mt. Holly, NC | 05/18/09 | 05/18/09
70019 | The Bergquist Company Touch Screen Division (Comp) | Cannon Falls, MN | 05/18/09 | 05/18/09
70020 | TMD Friction, Inc. (Comp) | Dublin, VA | 05/18/09 | 05/18/09
70021 | Ethan Allen Operations, Inc. (State) | Andover, ME | 05/18/09 | 05/18/09
70022 | Wausau Paper Specialty Products, LLC (State) | Jay, ME | 05/18/09 | 05/18/09
70023 | Triumph Apparel Corporation (Comp) | York, PA | 05/18/09 | 05/18/09
70024 | New Page Corporation/Rumford Paper Co. (State) | Rumford, ME | 05/18/09 | 05/18/09
70025 | Baker Furniture (Wkrs) | Hickory, NC | 05/18/09 | 04/23/09
70026 | Hewlett Packard (Wkrs) | Boise, ID | 05/18/09 | 05/18/09
70027 | Ram Rod Industry (Wkrs) | Prentice, WI | 05/18/09 | 05/18/09
70028 | Three Rivers Timber, Inc. (Comp) | Kamlah, ID | 05/18/09 | 05/18/09
70029 | Chick Machine Co., Inc. (Comp) | Butler, PA | 05/18/09 | 05/18/09
70030 | Pittsburg Glass Works #23 (Wkrs) | Evart, MI | 05/18/09 | 05/18/09
70031 | Lance Transport, Inc (Wkrs) | Hildebran, NC | 05/18/09 | 05/18/09
70032 | Mega Brands (State) | Livingston, NJ | 05/18/09 | 05/18/09
70033 | Fielder Electric Motor Repair, Inc. (Comp) | Galax, VA | 05/18/09 | 05/18/09
70034 | Vaagen Bros. Lumber, Inc. (Comp) | Colville, WA | 05/18/09 | 05/18/09
70035 | Schaeffler Group USA, Inc. (Wkrs) | Cheraw, SC | 05/18/09 | 05/18/09
70036 | Ferro Corporation (Wkrs) | Cleveland, OH | 05/18/09 | 05/18/09
70037 | Noranda Aluminum, Inc (USWA) | New Madrid, MO | 05/18/09 | 05/18/09
70038 | ABF Freight Systems (Wkrs) | Huber Heights, OH | 05/18/09 | 05/18/09
70039 | Umicore Autocat USA, Inc. (UAW) | Catoosa, OK | 05/18/09 | 05/18/09
70040 | Eaton Corporation—Truck Components (Comp) | Greenfield, IN | 05/18/09 | 05/18/09
70041 | Ami Entertainment Network (Comp) | Grand Rapids, MI | 05/18/09 | 05/18/09
70042 | Crosby National Swage (State) | Jacksonville, AR | 05/18/09 | 05/18/09
70043 | Koch Originals (Wkrs) | Evansville, IN | 05/18/09 | 05/18/09
70044 | Croscill Acquisition, LLC (Comp) | Oxford, NC | 05/18/09 | 05/18/09
70045 | Victoria & Co (Comp) | East Providence, RI | 05/18/09 | 05/18/09
70046 | Mothers Work, Inc./Destination Maternity (Wkrs) | Philadelphia, PA | 05/18/09 | 05/18/09
70047 | Superior Fabrication Company, LLC (Comp) | Kincheloe, MI | 05/18/09 | 05/18/09
70048 | Symantec Corporation (Wkrs) | Springfield, OR | 05/18/09 | 05/18/09
70049 | Dan Draexlmaier (Wkrs) | Duncan, SC | 05/18/09 | 05/18/09
70050 | Tyco Elecronics Corporation (Wkrs) | Jonestown, PA | 05/18/09 | 05/18/09
70051A | Aavid Thermalloy, LLC (Comp) | Concord, NH | 05/19/09 | 05/18/09
70051 | Aavid Thermalloy, LLC (Comp) | Laconia, NH | 05/19/09 | 05/18/09
70052 | Transfreight, LLC (Comp) | Princeton, IN | 05/19/09 | 05/18/09
70053 | Plexus Services Corp (Wkrs) | Nampa, ID | 05/19/09 | 05/18/09
70054 | Precision Coil, Inc. (Comp) | Clarksburg, WV | 05/19/09 | 05/18/09
70055 | Ovonic Energy Products, Inc (IUE) | Springboro, OH | 05/19/09 | 05/18/09
70056 | Tensolite, LLC (Wkrs) | Vancouver, WA | 05/19/09 | 05/18/09
70057 | Rockwell Automation (Wkrs) | Richland Center, WI | 05/19/09 | 05/18/09
70058 | Cadence Design Systems, Inc. (Wkrs) | San Jose, CA | 05/19/09 | 05/18/09
70059 | Temic Automotive of North America (Comp) | Northbrook, IL | 05/19/09 | 05/18/09
70060 | Greif Brothers Services Corporation (Union) | Culloden, WV | 05/19/09 | 05/18/09
70061 | Castleford Tailors, Ltd (Union) | Williamstown, NJ | 05/19/09 | 05/18/09
70062 | Mulholland Brothers (Wkrs) | San Francisco, CA | 05/19/09 | 05/18/09
70063 | AIT (Formerly Integrated Flow Systems) () | Pflugerville, TX | 05/19/09 | 05/18/09
70064 | Hon Company (Wkrs) | Owensboro, KY | 05/19/09 | 05/18/09
70065 | Silver King Refrigeration , Inc. (State) | Plymouth, MN | 05/19/09 | 05/18/09
70066 | Emerson Network Power (Comp) | Tempe, AZ | 05/19/09 | 05/18/09
70067 | Alcoa, Inc. (Union) | Alcoa, TN | 05/19/09 | 05/18/09
70068 | CoAdna Photonics, Inc. (Wkrs) | Sunnyvale, CA | 05/19/09 | 05/18/09
70069 | Emerson Network Power (Com) | Marlborough, MA | 05/19/09 | 05/18/09
70070 | Tenaris Corp (State) | Blytheville, AR | 05/19/09 | 05/18/09
70071 | Indalex, Inc. (Comp) | Lincolnshire, IL | 05/19/09 | 05/18/09
70072 | Maxon (Part of HNI Company) (Wkrs) | Salisbury, NC | 05/19/09 | 05/18/09
70073 | Le Sueur, Inc (State) | Lesueur, MN | 05/19/09 | 05/18/09
70074 | Eagle Compressor (Wkrs) | Hickman, KY | 05/19/09 | 05/18/09
70075 | Colorite Specialty Resins () | Burlington, NJ | 05/19/09 | 05/18/09
70076 | Ryerson, Inc. (other) | Nashville, TN | 05/19/09 | 05/18/09
70077 | Carrick Turning Works, Inc. (Comp) | High Point, NC | 05/19/09 | 05/18/09
70078 | Eaton Aviation Corp/Aviation and Aerospace (Comp) | Aurora, CO | 05/19/09 | 05/18/09
70079 | Aetrium Corp (State) | N St Paul, MN | 05/19/09 | 05/18/09
70080 | Larson Boats/Genmar Minnesota (State) | Little Falls, MN | 05/19/09 | 05/18/09
70081 | Scotty's Fashions (Union) | Lehighton, PA | 05/19/09 | 05/18/09
70082 | Fort Wayne Foundry Corp. (Comp) | Fort Wayne, IN | 05/19/09 | 05/18/09
70083 | Circuit Check Inc (State) | Maple Grove, MN | 05/19/09 | 05/18/09
70084 | Vishay Dale (State) | Columbus, NE | 05/19/09 | 05/18/09
70085 | Emerson Network Power—Embedded Computing (Comp) | Madison, WI | 05/19/09 | 05/18/09
70086 | EBI Holding, LLC (State) | Parsippany, NJ | 05/19/09 | 05/18/09
70087 | Entegris, Inc. (State) | Chaska, MN | 05/19/09 | 05/18/09
70088 | Kelsey-Hayes Company (Comp) | Ettrick, WI | 05/19/09 | 05/18/09
70089 | Glenn Springs Holdings, Inc. (Comp) | New Castle, DE | 05/19/09 | 05/18/09
70090 | Tama Manufacturing Company Inc. (Union) | Allentown, PA | 05/19/09 | 05/18/09
70091 | NBS Card Technologies (Wrkrs) | Paramus, NJ | 05/19/09 | 05/18/09
70092 | Spartan Felt (State) | Roebuck, SC | 05/19/09 | 05/18/09
70093 | Vesuvius USA (Comp) | Fisher, IL | 05/19/09 | 05/18/09
70094 | Premier Mfg. Support Services, Inc (Wrkrs) | Princeton, IN | 05/19/09 | 05/18/09
70095 | Biotage, LLC (Comp) | Charlottesville, VA | 05/19/09 | 05/18/09
70096 | Auburn Mills, Inc. (Union) | Montgomeryville, PA | 05/19/09 | 05/18/09
70096A | Auburn Mills, Inc. (Union) | Auburn, PA | 05/19/09 | 05/18/09
70097 | Hydro Carbide Inc (Wrkrs) | Latrobe, PA | 05/19/09 | 05/18/09
70098 | Stahl (USA), Inc (Comp) | Peabody, MA | 05/19/09 | 05/18/09
70099 | Snap On Equipment (State) | Conway, AR | 05/19/09 | 05/18/09
70100 | Seel Tool and Die (Comp) | St. Marys, PA | 05/19/09 | 05/18/09
70101 | Domtar Industries Inc. (State) | Baileyville, ME | 05/19/09 | 05/18/09
70102 | Fairchild Semiconductor, Signal Path Organization (State) | So Portland, ME | 05/19/09 | 05/18/09
70103 | Vesuvius USA (Comp) | Charleston, IL | 05/19/09 | 05/18/09
70104 | North American Pipe Corp. (State) | Van Buren, AR | 05/19/09 | 05/18/09
70105 | San Antonio Shoe Conway Shoe Company (State) | Conway, AR | 05/19/09 | 05/18/09
70106 | TG Missouri Corporation (Comp) | Perryville, MO | 05/19/09 | 05/18/09
70107 | International Brotherhood of Electrical Workers Local Union 567 (State) | Lewiston, ME | 05/19/09 | 05/18/09
70108 | Woodstructures Inc (State) | Biddleford, ME | 05/19/09 | 05/18/09
70109 | Modern Woodcrafters LLC (State) | Luviston, ME | 05/19/09 | 05/18/09
70110 | Columbia Forest Products (State) | Presane Isle, ME | 05/19/09 | 05/18/09
70111 | TDK—Ferrites Corporation (Wkrs) | Shawnee, OK | 05/19/09 | 05/18/09
70112 | Sumitomo Electric Wiring Systems, Inc. (Comp) | Scottsville, KY | 05/19/09 | 05/18/09
70113 | Maine Wood Recycling Inc (State) | Ashland, ME | 05/19/09 | 05/18/09
70114 | Schlumberger (Comp) | Ft Smith, AR | 05/19/09 | 05/18/09
70115 | Senco Products, Inc. (Wkrs) | Cincinnati, OH | 05/19/09 | 05/18/09
70116 | Mullican Lumber Co, LP (Comp) | Ronceverte, WV | 05/19/09 | 05/18/09
70117 | Fulghum Fibres (State) | Baileyville, ME | 05/19/09 | 05/18/09
70118 | JDM Import Company, Inc. (Wkrs) | New York, NY | 05/19/09 | 05/18/09
70119 | Photronics (Comp) | Boise, ID | 05/19/09 | 05/18/09
70120 | Atlas Copco Comptec, LLC (State) | Voorheesville, NY | 05/19/09 | 05/18/09
70121 | Banner Engineering Corp. (State) | Fergus Falls, MN | 05/19/09 | 05/18/09
70122 | Oviso Manufacturing (State) | Concord, CA | 05/19/09 | 05/18/09
70123 | Electrolux Home Products, INC. (UAW) | Webster City, IA | 05/19/09 | 05/18/09
70124 | Hutchinson Technology Inc (State) | Hutchinson, MN | 05/19/09 | 05/18/09
70125 | Metaldyne Corporation (Comp) | Plymouth, MI | 05/19/09 | 05/18/09
70126 | Pass and Seymour Legrand (Comp) | Whitsett, NC | 05/19/09 | 05/18/09
70127 | Coca Cola Enterprises, Inc (State) | Brandon, FL | 05/19/09 | 05/18/09
70128 | AmerCable Inc (State) | El Dorado, AR | 05/19/09 | 05/18/09
70129 | Bose Corporation—Columbia, SC Plant (Comp) | Blythewood, SC | 05/19/09 | 05/18/09
70130 | Pilgrims Pride Corp (State) | Pittsburg, TX | 05/19/09 | 05/18/09
70131 | Niagara Cutter, Inc. (Wkrs) | Reynoldsville, PA | 05/19/09 | 05/18/09
70132 | Smead Manufacturing (Wkrs) | Logan, OH | 05/19/09 | 05/18/09
70133 | Hussmann Gloversville (Comp) | Gloversville, NY | 05/19/09 | 05/18/09
70134 | Finish Line Hosiery, Inc. (Comp) | Fort Payne, AL | 05/19/09 | 05/18/09
70135 | Advanced Micro Devices, Inc. (Wkrs) | Sunnyvale, CA | 05/19/09 | 05/18/09
70136 | Hyosung USA, Inc (Comp) | Utica, NY | 05/19/09 | 05/18/09
70137 | J.T. Posey Company/Arcadia Manufacturing Group (Comp) | Arcadia, CA | 05/19/09 | 05/18/09
70138 | Freescale Semiconductor/Technical Info. Center (Wkrs) | Austin, TX | 05/19/09 | 05/18/09
70139 | Valeo Electrical Systems (IUE) | Rochester, NY | 05/19/09 | 05/18/09
70140 | Wall Printing Company (Comp) | High Point, NC | 05/19/09 | 05/18/09
70141 | McMurray Fabrics, Inc. (Wkrs) | Aberdeen, NC | 05/19/09 | 05/18/09
70142 | United States Steel Great Lakes Works (USWA) | Ecorse, MI | 05/19/09 | 05/18/09
70143 | JL French Automotive Castings (Comp) | Sheboygan, WI | 05/19/09 | 05/18/09
70144 | Cenveo/Cadmus Communications (Wkrs) | Ephrata, PA | 05/19/09 | 05/18/09
70145 | Sunbury Textile Mills (Wkrs) | Sunbury, PA | 05/19/09 | 05/18/09
70146 | Mar/Tron (State) | Flippin, AR | 05/19/09 | 05/18/09
70147 | Lee Mah Electronics (Wrkrs) | San Francisco, CA | 05/19/09 | 05/18/09
70148 | W.Y. Shugart and Sons, Inc. (Comp) | Fort Payne, AL | 05/19/09 | 05/18/09
70149 | Dyno Nobel (Wkrs) | Wolf Lake, IL | 05/19/09 | 05/11/09
70150 | CB&I Constructors, Inc. (IBB) | Warren, PA | 05/19/09 | 05/18/09
70151 | Smith & Nephew, Inc. (Comp) | Largo, FL | 05/19/09 | 05/04/09
70152 | La-Z-Boy South (Comp) | Newton, MS | 05/19/09 | 05/18/09
70153 | Henkel Corporation (Comp) | Ontario, CA | 05/19/09 | 05/18/09
70154 | TitanX Engine Cooling (Comp) | Jamestown, NY | 05/19/09 | 05/18/09
70155 | International Automotive Components (Comp) | Sidney, OH | 05/19/09 | 05/18/09
70156 | Henkel Corporation (Comp) | Canton, MA | 05/19/09 | 05/18/09
70157 | Henkel Corporation—CA (Comp) | City of Industry, CA | 05/19/09 | 05/18/09
70158 | Miller Welding & Machine Co (Wkrs) | Brookville, PA | 05/19/09 | 05/18/09
70159 | Regal Beloit (Comp) | Brownsville, TX | 05/19/09 | 05/18/09
70160 | Knoll, Incorporated (Wkrs) | East Greenville, PA | 05/19/09 | 05/18/09
70161 | Kelsey-Hayes Company (Comp) | Wixom, MI | 05/19/09 | 05/18/09
70162 | Emcore Corporation (Wkrs) | Albuquerque, NM | 05/19/09 | 05/18/09
70163 | Electronic Data Systems (EDS), An HP Company (Wkrs) | Charlotte, NC | 05/19/09 | 05/18/09
70164 | Goodyear Tire & Rubber Co (USW) | Union City, TN | 05/19/09 | 05/18/09
70165 | Basler Electric Company (State) | Caraway, AR | 05/19/09 | 05/18/09
70166 | Health Net, Inc. (Comp) | Woodland Hills, CA | 05/19/09 | 05/18/09
70167 | Melampy Manufacturing (Wkrs) | Gibsonia, PA | 05/19/09 | 05/18/09
70168 | True Textiles, Inc. (Comp) | Lancaster, SC | 05/19/09 | 05/18/09
70169 | Molex, Inc. (State) | Maumelle, AR | 05/19/09 | 05/18/09
70170 | Emporium Hardwoods Lumber LLC (Wrks) | Emporium, PA | 05/19/09 | 04/21/09
70171 | Inergy Automotive Systems (Comp) | Adrian, MI | 05/19/09 | 05/18/09
70172 | Midwest Tool and Die Corp (Wkrs) | Fort Wayne, IN | 05/19/09 | 05/18/09
70173 | Major Tool Company (Wkrs) | Knoxville, TN | 05/19/09 | 05/18/09
70174 | D.R. Johnson Lumber Company (Comp) | Riddle, OR | 05/19/09 | 05/18/09
70175 | Riddle Laminators (Comp) | Riddle, OR | 05/19/09 | 05/18/09
70176 | Tex Tech Industries (State) | North Monmouth, ME | 05/19/09 | 05/18/09
70177 | Cascade Steel (Wkrs) | McMinnville, OR | 05/19/09 | 05/18/09
70178 | Geo Specialty Chemical (State) | Gibbstown, NJ | 05/19/09 | 05/18/09
70179 | IC Corporation (State) | Conway, AR | 05/19/09 | 05/18/09
70180 | Chicago Sun-Times (Comp) | Chicago, IL | 05/19/09 | 05/18/09
70180T | Midwest Suburban Publishing (Comp) | Tinley Park, IL | 05/19/09 | 05/18/09
70180B | The Doings (Comp) | Hinsdale, IL | 05/19/09 | 05/18/09
70180C | Post-Tribune (Comp) | Merrillville, IN | 05/19/09 | 05/18/09
70180D | Fox Valley Productions (Comp) | Plainfield, IL | 05/19/09 | 05/18/09
70180E | Aurora Beacon News (Comp) | Aurora, IL | 05/19/09 | 05/18/09
70180F | Elgin Courier (Comp) | Elgin, IL | 05/19/09 | 05/18/09
70180G | Waukegan News Sun (Comp) | Waukegan, IL | 05/19/09 | 05/18/09
70180H | Sun Publications (Comp) | Naperville, IL | 05/19/09 | 05/18/09
70180I | Joliet Herald News (Comp) | Joliet, IL | 05/19/09 | 05/18/09
70180J | Midwest Suburban Publishing (Comp) | Tinley Park, IL | 05/19/09 | 05/18/09
70180K | Chicago Sun-Times (Comp) | Chicago, IL | 05/19/09 | 05/18/09
70180L | Pioneer Press (Comp) | Glenview, IL | 05/19/09 | 05/18/09
70180M | The Doings (Comp) | Hinsdale, IL | 05/19/09 | 05/18/09
70180N | Post-Tribune (Comp) | Merrillville, IN | 05/19/09 | 05/18/09
70180O | Fox Valley Productions (Comp) | Plainfield, IL | 05/19/09 | 05/18/09
70180P | Aurora Beacon News (Comp) | Aurora, IL | 05/19/09 | 05/18/09
70180Q | Waukegan News Sun (Comp) | Waukegan, IL | 05/19/09 | 05/18/09
70180R | Sun Publications (Comp) | Naperville, IL | 05/19/09 | 05/18/09
70180S | Joliet Herald News (Comp) | Joliet, IL | 05/19/09 | 05/18/09
70180A | Pioneer Press (Comp) | Glenview, IL | 05/19/09 | 05/18/09
70181 | Hamilton Sundstrand (State) | Windsor Locks, CT | 05/19/09 | 05/18/09
70182 | St Lawrence Atlantic Railroad (State) | Auburn, ME | 05/19/09 | 05/18/09
70183 | Sony Technology Center—Pittsburg (Comp) | Mt Pleasant, PA | 05/19/09 | 05/18/09
70184 | Dana Commercial Vehicles Products, LLC (AFL) | Humboldt, TN | 05/19/09 | 05/18/09
70185 | Gulliver's Travels, Inc. (State) | Sarasota, FL | 05/19/09 | 05/18/09
70186 | Engel Machinery, Inc. (Wkrs) | York, PA | 05/19/09 | 05/18/09
70187 | Saint-Gobain Containers (GMP) | Waxahachie, TX | 05/19/09 | 05/19/09
70188 | Century Mold Co., Inc. (Comp) | Shelbyville, TN | 05/19/09 | 05/18/09
70189 | Signature Aluminum (USWA) | Greenville, PA | 05/19/09 | 05/18/09
70190 | Sherwood Value LLC (Union) | Washington, PA | 05/19/09 | 05/18/09
70191 | B. Braum Medical, Inc. (State) | Cherry Hill, NJ | 05/19/09 | 05/18/09
70192 | Franklin Pump Systems, Inc (State) | Little Rock, AR | 05/19/09 | 05/18/09
70193A | Robertson Airtech International, Inc. (Wkrs) | Gastonia, NC | 05/19/09 | 05/18/09
70193 | Robertson Airtech International, Inc. (Wkrs) | Charlotte, NC | 05/19/09 | 05/18/09
70194 | Maida Development Company (Comp) | Hampton, VA | 05/19/09 | 05/18/09
70195 | Inergy Automotive Systems (USA) LLC (Comp) | Troy, MI | 05/19/09 | 05/18/09
70196 | Cordis Corporation, a Division of Codman & Shurtleff, Inc. (State) | Miami Lakes, FL | 05/19/09 | 05/18/09
70197 | Wallenlus Wilhelmsen Logisitics (State) | Woodfliff Lake, NJ | 05/19/09 | 05/18/09
70198 | United Association of Journeymen and Apprentices Plumbing and Pipefitting (State) | Augusta, ME | 05/19/09 | 05/18/09
70199 | WestPoint Home, Inc. (State) | Chipley, FL | 05/19/09 | 05/18/09
70200 | VWR International, LLC (State) | Bridgeport, NJ | 05/19/09 | 05/18/09
70201 | Tivoly, Inc. (IAMAW) | Derby Line, VT | 05/19/09 | 05/18/09
70202 | Eaton Corporation (State) | Searcy, AR | 05/19/09 | 05/18/09
70203 | Bayloff Stamped Products (USW) | Kinsman, OH | 05/19/09 | 05/18/09
70204 | Baxter Healthcare Corporation (State) | North Largo, FL | 05/19/09 | 05/18/09
70205 | Springs Window Fashion (Wkrs) | Grayling, MI | 05/19/09 | 05/18/09
70206 | Doral Manufacturing, Inc. (State) | Miami, FL | 05/19/09 | 05/18/09
70207 | FLA Orthopedics, Inc. (State) | Miramar, FL | 05/19/09 | 05/18/09
70208 | 3M Company (Comp) | Columbia, MO | 05/19/09 | 05/19/09
70209 | AGC Flat Glass North America, Inc. (Comp) | Bridgeport, WV | 05/19/09 | 05/18/09
70210 | First Data Corporation, Global Customer Service Operations (State) | Coral Springs Greenwood, FL | 05/19/09 | 05/18/09
70211 | Premium Allied Tool (Wkrs) | Owensboro, KY | 05/19/09 | 05/18/09
70212 | Centurion Wireless Technologies (State) | Lincoln, NE | 05/19/09 | 05/18/09
70213 | Levi Strauss and Company (Wkrs) | San Francisco, CA | 05/19/09 | 05/18/09
70214 | W and N Machine Shop, Inc. (Comp) | St. Marys, PA | 05/19/09 | 05/18/09
70215 | Schawk, Inc. (State) | Mount Olive, NJ | 05/19/09 | 05/18/09
70216 | Nexergy, Inc. (Comp) | Canon City, CO | 05/19/09 | 05/18/09
70217 | SKF USA, Inc. (Comp) | Elgin, IL | 05/19/09 | 05/18/09
70218 | Ryden Logistics (State) | Ledgewood, NJ | 05/19/09 | 05/18/09
70219 | Vescom Corporation (State) | Hampden, ME | 05/19/09 | 05/18/09
70220 | BoMag Americas, Inc. (Wkrs) | Kewanee, IL | 05/19/09 | 05/18/09
70221 | Wacker Polymers Corporation (State) | Dayton, NJ | 05/19/09 | 05/18/09
70222 | Solutia, Inc. (Comp) | Trenton, MI | 05/19/09 | 05/18/09
70223 | Eaton Corporation (State) | Mountain Home, AR | 05/19/09 | 05/18/09
70224 | Therm-O-Disc, Inc. (Comp) | Muskegon, MI | 05/19/09 | 05/18/09
70225 | Thin Film Technology (State) | North Mankato, MN | 05/19/09 | 05/18/09
70226 | Egide USA, Inc. (State) | Cambridge, MD | 05/19/09 | 05/19/09
70227 | Meridian Automotive Systems-Plant # 5 (Comp) | Grand Rapids, MI | 05/19/09 | 05/19/09
70228 | Johnson Controls, Inc. (UAW) | Greenfield, OH | 05/19/09 | 05/19/09
70229 | Stein Steel Mill Services (USWA) | Broadview Heights, OH | 05/19/09 | 05/19/09
70230 | Millinocket Fabrication and Machine, Inc. (Comp) | Millinocket, ME | 05/19/09 | 05/18/09
70231 | Bassett Factory Outlet Store (Comp) | Bassett, VA | 05/19/09 | 05/19/09
70232 | Halliburton Energy Services (Wrks) | Duncan, OK | 05/19/09 | 05/19/09
70233 | Pine Hosiery Mills, Inc (Comp) | Star, NC | 05/20/09 | 05/19/09
70234 | Hampton Affiliates (Comp) | Darrington, WA | 05/20/09 | 05/18/09
70235 | SCI, LLC/Zener-Rectifier (Comp) | Phoenix, AZ | 05/20/09 | 05/18/09
70236 | Collis, Inc (State) | Clinton, IA | 05/20/09 | 05/18/09
70237 | Collis, Inc. (Comp) | Evansville, IN | 05/20/09 | 05/18/09
70238 | Straits Steel and Wire Company (Comp) | Ludington, MI | 05/20/09 | 05/18/09
70239 | Southern Steel and Wire Company, Inc. (Comp) | Fort Smith, AR | 05/20/09 | 05/18/09
70240 | American Appliance Products, Inc. (Comp) | Newport, TN | 05/20/09 | 05/18/09
70241 | Alabama Wire Products, Inc. (Comp) | Elizabethtown, KY | 05/20/09 | 05/18/09
70242 | Findlay Industries (Union) | Findlay, OH | 05/20/09 | 05/19/09
70243 | International Paper Company (Comp) | Franklin, VA | 05/20/09 | 05/19/09
70244 | Align Technology, Inc. (Comp) | Santa Clara, CA | 05/20/09 | 05/18/09
70245 | Caye Upholstery (WKRS) | Amory, MS | 05/20/09 | 05/18/09
70246 | Integrated Manufacturing Technologies, Inc. (Comp) | Elgin, TX | 05/20/09 | 05/18/09
70247 | Panel Crafters, Inc. (Wkrs) | White City, OR | 05/20/09 | 05/18/09
70248 | Borgwarner Turbo & Emissions Systems, Inc. (Wkrs) | Arden, NC | 05/20/09 | 05/19/09
70249 | US Technology Marine Services (Wkrs) | Caton, OH | 05/20/09 | 05/19/09
70250 | Jagger Brothers, Inc. (Comp) | Springvale, ME | 05/20/09 | 05/18/09
70251 | Toyal American, Inc. (Comp) | Lockport, IL | 05/20/09 | 05/18/09
70252 | Ogden Manufacturing, Inc. (Comp) | Edinboro, PA | 05/20/09 | 05/18/09
70253 | Fluidmaster, Inc. (Comp) | La Vergne, TN | 05/20/09 | 05/18/09
70254 | Moldingmaster (Comp) | Santa Fe Springs, CA | 05/20/09 | 05/18/09
70255 | Tyco Safety Products (Comp) | Westminster, MA | 05/20/09 | 05/13/09
70256 | Fluidmaster, Inc. (Comp) | San Juan Capistrano, CA | 05/20/09 | 05/18/09
70257 | Eaton Corporation (Comp) | Mentor, OH | 05/20/09 | 05/18/09
70258 | Toho Tenax America, Inc. (Comp) | Rockwood, TN | 05/20/09 | 05/18/09
70259 | Chemetail Foote Corp. (Comp) | Silver Peak, NV | 05/20/09 | 05/15/09
70260 | Ring Screw LLC—Fenton Operations (Comp) | Fenton, MI | 05/20/09 | 05/18/09
70260K | Camcar LLC—Spencer Operations (Comp) | Spencer, TN | 05/20/09 | 05/18/09
70260L | Camcar LLC—Rochester Operations (Comp) | Rochester, IN | 05/20/09 | 05/18/09
70260J | Camcar LLC—Belvidere Operations (Comp) | Belvidere, MI | 05/20/09 | 05/18/09
70260I | Ring Screw LLC—Holly Distribution Center (Comp) | Holly, MI | 05/20/09 | 05/18/09
70260H | Ring Screw LLC—Semco Fasteners (Comp) | Holly, MI | 05/20/09 | 05/18/09
70260G | Acument Global Technologies—Headquarters (Comp) | Troy, MI | 05/20/09 | 05/18/09
70260F | Ring Screw LLC—Shamrock Fasteners (Comp) | Sterling Heights, MI | 05/20/09 | 05/18/09
70260E | Ring Screw LLC—Gainey Operations (Comp) | Holly, MI | 05/20/09 | 05/18/09
70260D | Burkland LLC—Goodrich Operations (Comp) | Goodrich, MI | 05/20/09 | 05/18/09
70260C | Ring Screw LLC—Titan Fasteners (Comp) | Holly, MI | 05/20/09 | 05/18/09
70260B | Ring Screw LLC—Detroit Distribution Center (Comp) | Detroit, MI | 05/20/09 | 05/18/09
70260A | Ring Screw LLC—Warren Operations (Comp) | Warren, MI | 05/20/09 | 05/18/09
70261 | Stimson Lumber Company (Union) | Clatskanie, OR | 05/20/09 | 05/18/09
70262 | Auto Nation (Wkrs) | Fort Lauderdale, FL | 05/20/09 | 05/18/09
70263 | Sumitomo Electric Wiring Systems, Inc. (Comp) | Edmonton, KY | 05/20/09 | 05/18/09
70264 | Phelps Dodge Corp. Freeport (Wkrs) | Phoenix, AZ | 05/20/09 | 05/18/09
70265 | Weyerhaeuser Engineered Wood Products (comp) | Grayling, MI | 05/20/09 | 05/18/09
70266 | Musashi South Carolina, Inc. (Comp) | Bennettsville, SC | 05/20/09 | 05/18/09
70267 | Boise Cascade LLC Inland Region—Northeastern Oregon—Plywood & Stud Mill (State) | Elgin, OR | 05/20/09 | 05/18/09
70268 | LDS Test and Measurement, LLC (Comp) | Middleton, WI | 05/20/09 | 05/19/09
70269 | KJP Telecommunications (State) | Faribault, MN | 05/20/09 | 05/18/09
70270 | Mipox International Corporation (Comp) | Hayward, CA | 05/20/09 | 05/18/09
70271 | Georgia-Pacific (Comp) | Philimath, OR | 05/20/09 | 05/13/09
70272 | Mercedes-Benz-MBUSI (Wkrs) | Vance, AL | 05/20/09 | 05/18/09
70273 | Plum Creek MDF, Inc. (Comp) | Columbia Falls, MT | 05/20/09 | 05/19/09
70274 | Avantech Manufacturing, LLC (Comp) | Mt. Pleasant, TN | 05/20/09 | 05/19/09
70275 | Bauhaus USA, Inc. (Comp) | Saltillo, MS | 05/20/09 | 05/19/09
70276 | EcoQuest Holding Corporation (Comp) | Greeneville, TN | 05/20/09 | 05/18/09
70277 | Mississippi Polymers, Inc. (Comp) | Corinth, MS | 05/20/09 | 05/19/09
70278 | Acushnet Company (Comp) | Brockton, MA | 05/20/09 | 05/19/09
70279 | Energy Partner Ltd. (Comp) | New Orleans, LA | 05/20/09 | 05/09/09
70280 | Hewlett-Packard Caribe, BV, LLC (State) | Aguadilla, PR | 05/20/09 | 05/18/09
70281 | AGC Flatglass North America, Inc. Corporate Services Office (Comp) | Kingsport, TN | 05/20/09 | 04/18/09
70282 | J.W. Pike LTD/Vintage Verandah, Canada, Inc. (Wkrs) | Kalispell, MT | 05/20/09 | 05/18/09
70283 | Sandvik Mining & Construction (Comp) | Mansfield, TX | 05/20/09 | 05/19/09
70284 | Plains Cotton Cooperative Association—American Cotton Growers (Comp) | Lubbock, TX | 05/20/09 | 05/18/09
70285 | EDS (Wks) | Lansing, MI | 05/20/09 | 05/19/09
70286 | Ferrell MFG., Inc. (Comp) | Graham, NC | 05/20/09 | 05/19/09
70287 | Straits Steel and Wire Company (Comp) | Dallas, TX | 05/20/09 | 05/18/09
70288 | Russell Brands, LLC/Russell Athletic (Comp) | Atlanta, GA | 05/20/09 | 05/18/09
70289 | Datalogic, Mobile Inc. (Comp) | Eugene, OR | 05/20/09 | 05/19/09
70290 | Avery Dennison (Comp) | Rock Hill, SC | 05/20/09 | 05/19/09
70291 | Maxim Integrated Products (Worker) | Dallas, TX | 05/20/09 | 05/19/09
70292 | BHP Copper Inc., Pinto Valley Operations & San Manel Arizona Railroad Co (Comp) | Miami, AZ | 05/20/09 | 05/19/09
70293 | ZMI Portec, Inc. (Wkrs) | Sibley, IA | 05/20/09 | 05/05/09
70294 | Quala-Die, Inc. (Comp) | St. Marys, PA | 05/20/09 | 05/19/09
70295 | Ultimizers, Inc. (Comp) | Boring, OR | 05/20/09 | 05/18/09
70296 | SMC Corporation of America-Detriot Branch (Worker) | Rochester Hills, MI | 05/20/09 | 05/19/09
70297 | Alcoa Wheel and Transportation Products (Comp) | Lebanon, VA | 05/20/09 | 05/19/09
70298 | Leeds (Wkrs) | Warren, OH | 05/20/09 | 05/18/09
70299 | Hunt Forest Products, Inc. (Comp) | Natalabany, LA | 05/20/09 | 05/19/09
70300 | Exide Technologies (State) | Baton Rouge, LA | 05/20/09 | 05/19/09
70301 | May and Scofield, LLC (Comp) | Fowlerville, MI | 05/20/09 | 05/18/09
70302 | Pilgrims Pride (State) | Farmerville, LA | 05/20/09 | 05/19/09
70303 | Bentex Mills, Inc. (Comp) | Greensboro, NC | 05/20/09 | 05/19/09
70304 | Biovail Laboratories International, SRL (State) | Dorado, PR | 05/20/09 | 05/18/09
70305 | Shorewood Packaging (Wks) | Springfield, OR | 05/20/09 | 05/18/09
70306 | Noble Metal Processing, Inc. (Wkrs) | Warren, MI | 05/20/09 | 05/19/09
70307 | Morton Metalcraft of Pennsylvania (Comp) | Bedford, PA | 05/20/09 | 05/19/09
70308 | Milso Industries—Matthews Casket Division (Comp) | Richmond, IN | 05/20/09 | 05/19/09
70309 | Mt. Vernon Mills—LaFrance Industries (Wks) | La France, SC | 05/20/09 | 05/18/09
70310 | Ortho Pharmaceutical, Division of Janssen Ortho LLC (State) | Manati, PR | 05/20/09 | 05/18/09
70311 | Newport Precision, Inc. (Wks) | Newport, TN | 05/20/09 | 05/19/09
70312 | Alcatel-Lucent (State) | Westford, MA | 05/20/09 | 05/19/09
70313 | Continental Automotive Systems US Inc. (Comp) | Elkhart, IN | 05/20/09 | 05/18/09
70314 | Jeld-Wen (Wkrs) | Klamath Falls, OR | 05/20/09 | 05/19/09
70315C | Dodger Industries, Inc. (Comp) | Raleigh, NC | 05/20/09 | 05/18/09
70315A | Dodger Industries, Inc. (Comp) | Clinton, NC | 05/20/09 | 05/18/09
70315B | Dodger Industries, Inc. (Comp) | Fayetteville, NC | 05/20/09 | 05/18/09
70315 | Dodger Industries, Inc. (Comp) | Eldora, IA | 05/20/09 | 05/18/09
70316 | Oneal Steel (Wks) | Roanoke, VA | 05/20/09 | 05/19/09
70317 | SMTC, Enclosure Systems Division (Wks) | Franklin, MA | 05/20/09 | 05/18/09
70318 | St. Onge Logging, Inc. (Comp) | Kalispell, MT | 05/20/09 | 05/18/09
70319 | Xerox Corporation (Wkrs) | Lewisville, TX | 05/20/09 | 05/18/09
70320 | Cannondale Bicycle Corporation (Comp) | Bedford, PA | 05/20/09 | 05/18/09
70321 | Leggett and Platt, Inc. (Wks) | Wilkes-Barre, PA | 05/20/09 | 05/18/09
70322 | Steelscape (Comp) | Rancho Cucamonga, CA | 05/20/09 | 05/18/09
70323 | Tokyo Electron America (Comp) | Austin, TX | 05/20/09 | 05/19/09
70324 | Delphi Packard Electric (Union) | Warren, OH | 05/20/09 | 05/19/09
70325 | Tyco Electronics (Comp) | Emigsville, PA | 05/20/09 | 05/18/09
70326 | Ford Motor Co (State) | Dearborn, MI | 05/20/09 | 05/18/09
70327 | SAPA Fabricated Products (State) | Magnolia, AR | 05/20/09 | 05/18/09
70328 | Gaston County Dyeing Machine CO (State) | Mount Holly, NC | 05/20/09 | 05/18/09
70329 | Tech Group (State) | Van Buren, AR | 05/20/09 | 05/19/09
70330 | Siemens PLM Software, Inc. (Wks) | Troy, MI | 05/20/09 | 05/19/09
70331 | DRS Laurel Technologies (Wks) | Johnstown, PA | 05/20/09 | 05/18/09
70332 | LexisNexis (State) | San Francisco, CA | 05/20/09 | 05/18/09
70333 | URS Corporation (wkrs) | Grand Rapids, MI | 05/20/09 | 05/18/09
70334 | DHL U.S. Express (State) | San Francisco, CA | 05/20/09 | 05/19/09
70335 | Milliken and Company (Wrkrs) | Columbus, NC | 05/20/09 | 05/19/09
70336 | Brunswick Bowling & Billiard Corp (State) | Muskegon, MI | 05/20/09 | 05/19/09
70337 | Milliken & Co. Hatch Plant (Wks) | Columbus, NC | 05/20/09 | 05/19/09
70338 | Rapid-Line, Inc. (Wks) | Wyoming, MI | 05/20/09 | 05/18/09
70339 | Delphi Corporation (Wrkrs) | Auburn Hills, MI | 05/20/09 | 05/19/09
70340 | Computer Sciences Corporation (Wrkrs) | Caledonia, MI | 05/20/09 | 05/18/09
70341 | DENSO Manufacturing Athens, Tennessee (Wkrs) | Athens, TN | 05/20/09 | 05/19/09
70342 | Plum Creek Northwest Lumber, Inc. (Comp) | Columbia Falls, MT | 05/20/09 | 05/19/09
70343 | WuXi Apptec (Wks) | Philadelphia, PA | 05/20/09 | 05/18/09
70344 | Atlantic Southeast Airlines (Wrkrs) | Fort Smith, AR | 05/20/09 | 05/18/09
70345 | Avery Dennison (Comp) | Sayre, PA | 05/20/09 | 05/18/09
70346 | Nabors Drilling USA, LP (One St) | Fruita, CO | 05/20/09 | 05/19/09
70347 | Mountain Skyliners, Inc. (Wks) | Leavenworth, WA | 05/20/09 | 05/12/09
70348 | Clover Yarns, Inc. (Comp) | Clover, VA | 05/20/09 | 05/19/09
70349 | Trane Commercial Systems (State) | Fort Smith, AR | 05/21/09 | 05/18/09
70350 | Vin-Tex Sealers, Inc. (State) | Itasca, IL | 05/21/09 | 05/18/09
70351 | National Semiconductor-Arlington (Comp) | Arlington, TX | 05/21/09 | 05/18/09
70352 | Redding Record Searchlight (State) | Redding, CA | 05/21/09 | 05/18/09
70353 | Straits Steel and Wire Company (Comp) | Dallas, TX | 05/21/09 | 05/18/09
70354 | Molo-Rite tool (State) | Fraser, MI | 05/21/09 | 05/19/09
70355 | Carmeuse Lime and Stone, Inc. (State) | Pittsburgh, PA | 05/21/09 | 05/19/09
70356 | Ford Motor Co., Powertrain Fuel—Subsystem Laboratories (State) | Dearborn, MI | 05/21/09 | 05/19/09
70357 | Transform Automotive LLC (State) | Sterling Heights, MI | 05/21/09 | 05/19/09
70358 | Eudora Garment Corporation (State) | Eudora, AR | 05/21/09 | 05/18/09
70359 | Firestone Building Products Co. (State) | Prescott, AR | 05/21/09 | 05/19/09
70360 | Federal-Mogul Ignition Products (State) | Dumas, AR | 05/21/09 | 05/19/09
70361 | TG Fluid Systems (State) | Brighton, MI | 05/21/09 | 05/19/09
70362 | Tokyo Electron Massachusetts (State) | Beverly, MA | 05/21/09 | 05/19/09
70363 | TRW/Kelsey Hayes (State) | Farmington Hills, MI | 05/21/09 | 05/19/09
70364 | Carboloy Inc. (State) | Warren, MI | 05/21/09 | 05/19/09
70365 | Bell Engineering (State) | Saginaw, MI | 05/21/09 | 05/19/09
70366 | Lennox Industries Inc (State) | Stuttgart, AR | 05/21/09 | 05/19/09
70367 | Unit Structure LLC (State) | Magnolia, AR | 05/21/09 | 05/18/09
70368 | Arkansas Warehouse Inc. (State) | Fort Smith, AR | 05/21/09 | 05/19/09
70369 | Wabash Wood Products (State) | Harrison, AR | 05/21/09 | 05/19/09
70370 | Danfoss (State) | Arkadelphia, AR | 05/21/09 | 05/18/09
70371 | Computer Sciences Corporation (Wkrs) | Caledonia, MI | 05/21/09 | 05/18/09
70372 | Tower Automotive (Wkrs) | Elkton, MI | 05/21/09 | 05/19/09
70373 | Eaton Hydraulics (State) | Greenwood, SC | 05/21/09 | 05/19/09
70374 | Vanity Fair Brands Knitting Facility (Comp) | Jackson, AL | 05/21/09 | 05/19/09
70375 | Mohawk Industries (One St) | Calhoun Falls, SC | 05/21/09 | 05/19/09
70376 | Kaiser Aluminum (One St) | Greenwood, SC | 05/21/09 | 05/19/09
70377 | Morgan AM & T (Union) | Coudersport, PA | 05/21/09 | 05/20/09
70378 | Carpenter Company (Wkrs) | Richmond, VA | 05/21/09 | 05/19/09
70379 | Stanley Works (State) | New Britain, CT | 05/21/09 | 05/20/09
70380 | Americas Styrenics, Marietta, OH Facility (USW) | Marietta, OH | 05/21/09 | 05/20/09
70381 | Thomas Steel Strip Corporation (Wkrs) | Warren, OH | 05/21/09 | 05/19/09
70382 | Cadre Steel detailing, Inc. (Wkrs) | Kalama, WA | 05/21/09 | 05/19/09
70383 | Veyance Technologies Inc. (Union) | Sun Prairie, WI | 05/21/09 | 05/20/09
70384 | National Mills, Inc. (Comp) | Pittsburg, KS | 05/21/09 | 05/19/09
70385 | Russell Brands, LLC (Comp) | Springfield, MA | 05/21/09 | 05/19/09
70386 | Mazer Corporation (Wkrs) | Dayton, OH | 05/21/09 | 05/19/09
70387 | Conrad Imports, Inc. (Wkrs) | San Francisco, CA | 05/21/09 | 05/19/09
70388 | Tim Bar Packaging and Display Oneida Division (Comp) | Vernon, NY | 05/21/09 | 05/19/09
70389 | Stanley Access Technologies (State) | Farmington, CT | 05/21/09 | 05/19/09
70390 | Springs Global US, Inc. Sardis Plant (Comp) | Sadris, MS | 05/21/09 | 05/18/09
70391 | Consolidated Metco Inc. (Wkrs) | Canton, NC | 05/21/09 | 05/18/09
70392 | UAW Local 1250 (UAW) | Brook Park, OH | 05/21/09 | 05/20/09
70393 | Rawlings Sporting Goods Washington Distribution Center (Comp) | Washington, MO | 05/21/09 | 05/20/09
70394 | Multi-Plastic of New Mexico, Inc. (Comp) | Las Crucez, NM | 05/21/09 | 05/20/09
70395 | Dawson Metal Co., Inc. (Wkrs) | Jamestown, NY | 05/21/09 | 05/18/09
70396 | Wheeling Machine Products (State) | Pine Bluff, AR | 05/21/09 | 05/19/09
70397 | Weyerhaeuser Company (State) | Emerson, AR | 05/21/09 | 05/19/09
70398 | Cessna Aircraft (One St) | Bend, OR | 05/21/09 | 05/18/09
70399 | Monaco Coach Corp. (One St) | Hines, OR | 05/21/09 | 05/18/09
70400 | Delphi Connection Systems/Specialty Electronics (Comp) | Landrum, SC | 05/21/09 | 05/19/09
70401 | IM Flash Technologies, LLC (Wkrs) | Lehi, UT | 05/21/09 | 05/18/09
70402 | American and Efird, Inc. (Wkrs) | Mount Holly, NC | 05/21/09 | 05/19/09
70403 | IBM (Wkrs) | El Segundo, CA | 05/21/09 | 05/18/09
70404 | Century Land and Timber Inc. (Comp) | Greenville, NC | 05/22/09 | 05/20/09
70405 | Avaya Inc. (State) | Highlands Ranch, CO | 05/22/09 | 05/19/09
70406 | Greenville Metals, Inc. (Comp) | Transfer, PA | 05/22/09 | 05/19/09
70407 | L and L Products, Inc. (Worker) | Romeo, MI | 05/22/09 | 05/19/09
70408 | DJ Fashions, LLC (Wkrs) | New York, NY | 05/22/09 | 05/08/09
70409 | Frontier Spinning Mills, Plant 6 (Comp) | Cheraw, SC | 05/22/09 | 05/18/09
70410 | Avnet Grapevine Assembly Facility (Comp) | Grapevine, TX | 05/22/09 | 05/19/09
70411 | Tarkio Corporation (Comp) | Beaverton, OR | 05/22/09 | 05/19/09
70412 | Weyerhaeuser (Comp) | Dallas, OR | 05/22/09 | 05/18/09
70413 | Berkline/BenchCraft (Plant 5) (Comp) | Livingston, TN | 05/22/09 | 05/19/09
70414 | Berkline/BenchCraft, LLC (Plant 1, 2, 3, and 6) (Comp) | Morristown, TN | 05/22/09 | 05/19/09
70415 | Gerber Legendary Blades (Comp) | Portland, OR | 05/22/09 | 05/19/09
70416 | Lennox Industries, Inc.—North American Parts Center (Comp) | Urbandale, IA | 05/22/09 | 05/19/09
70417 | Milliken & Co.—Sharon Plant (State) | Abbeville, SC | 05/22/09 | 05/19/09
70418 | Pentair Water Pool and Spa (Wrkrs) | Auburn, CA | 05/22/09 | 05/19/09
70419 | Goodyear Dunlp North America (Union) | Tonawanda, NY | 05/22/09 | 05/19/09
70420 | Milliken & Co.—Abbeville Plant (State) | Abbeville, SC | 05/22/09 | 05/19/09
70421 | Delphi Automotive Systems (Wkrs) | Warren, OH | 05/22/09 | 05/19/09
70422 | Wyoming Sawmills, Inc. (Wrkrs) | Sheridan, WY | 05/22/09 | 05/19/09
70423 | Phillips Plating Corporation (Worker) | Phillips, WI | 05/22/09 | 05/19/09
70424 | Caterpillar Technical Center Building G (URS Washington Div) (Wkrs) | Mossville, IL | 05/22/09 | 05/19/09
70425 | UGN, Inc. (Wrkrs) | Jackson, TN | 05/22/09 | 05/18/09
70426 | Timminco Corporation (Wkrs) | Aurora, CO | 05/22/09 | 05/20/09
70427 | Hewlett-Packard Company (Wkrs) | Carmel, IN | 05/22/09 | 05/19/09
70428 | Flextronics (Work) | Flextronics, CO | 05/22/09 | 05/20/09
70429 | Neocork Technologies (Wrkrs) | Conover, NC | 05/22/09 | 05/18/09
70430 | Unicco (State) | South Portland, ME | 05/22/09 | 05/19/09
70431 | Marlo Electronics (State) | Ft. Lauderdale, FL | 05/22/09 | 05/19/09
70432 | Bead Industries—Bead Chain Division (State) | Milford, CT | 05/22/09 | 05/19/09
70433 | ILevel by Weyerhaeuser—Buckhannon Mill (Comp) | Buckhannon, WV | 05/22/09 | 05/18/09
70434 | Flextronics America, LLC (Comp) | Charlotte, NC | 05/22/09 | 05/18/09
70435 | ANP Dimensional Lumber (Wkrs) | Ogema, WI | 05/22/09 | 05/19/09
70436 | Dura Automotive Systems, Inc. (Comp) | Gordonsville, IN | 05/22/09 | 05/20/09
70437 | Circuit Science (State) | Plymouth, MN | 05/22/09 | 05/20/09
70438 | Durr Systems Inc. (Worker) | Plymouth, MI | 05/22/09 | 05/18/09
70439 | Signature Aluminum (Wkrs) | Greenville, PA | 05/22/09 | 05/20/09
70440 | Lincoln Electric/Harris Products Group (Wkrs) | Mason, OH | 05/22/09 | 05/18/09
70441 | Lionbridge (State) | Waltham, MA | 05/22/09 | 05/20/09
70442 | Pfizer (Wkrs) | Terre Haute, IN | 05/22/09 | 05/19/09
70443 | Fleetwood Fixtures (Wkrs) | Leesport, PA | 05/22/09 | 05/18/09
70444 | Richland Manufacturing (State) | Olney, IL | 05/22/09 | 05/18/09
70445 | Littelfuse, Inc. (State) | Arcola, IL | 05/22/09 | 05/18/09
70446 | Aida America Corporation (Comp) | Dayton, OH | 05/22/09 | 05/21/09
70447 | Paragon Store Fixtures, Inc. (Comp) | Big Lake, MN | 05/22/09 | 05/18/09
70448 | Jabil Billerica (Comp) | Billerica, MA | 05/22/09 | 05/18/09
70449 | Sumco Phoenix Corporation (State) | Phoenix, AZ | 05/22/09 | 05/20/09
70450 | Derby Cellular Products, Inc. (State) | Derby, CT | 05/22/09 | 05/20/09
70451 | CME, LLC (Comp) | Mt. Pleasant, MI | 05/22/09 | 05/20/09
70452 | International Paper (Comp) | Howell, MI | 05/22/09 | 05/22/09
70453 | Flextronics International (Wkrs) | Elk Grove Village, IL | 05/22/09 | 05/20/09
70454 | Graphite Eng. & Sales (Worker) | Greenville, MI | 05/22/09 | 05/18/09
70455 | Astellas Pharma Manufacturing, Inc. (Wkrs) | Grand Island, NY | 05/22/09 | 05/19/09
70456 | National Semiconductor (State) | 5 Foden Rd, ME | 05/22/09 | 05/20/09
70457 | Multi-Plastics, Inc. (Comp) | Saegertown, PA | 05/22/09 | 05/20/09
70458 | April Steel Processing (Comp) | Dearborn, MI | 05/22/09 | 05/20/09
70459 | Icon Health and Fitness (State) | Logan, UT | 05/22/09 | 05/20/09
70460 | Delphi Steering (Union) | Saginaw, MI | 05/22/09 | 05/20/09
70461 | S and S Fire Apparatus (Wkrs) | Fairmount, IN | 05/22/09 | 05/19/09
70462 | Windsor Forestry Tools (Company) | Milan, TN | 05/22/09 | 05/20/09
70463 | Zebra Technologies, Inc (Comp) | Vernon Hills, IL | 05/22/09 | 05/19/09
70463A | Zebra Technologies, Inc (Comp) | Camarillo, CA | 05/22/09 | 05/19/09
70464 | Tabs Direct Inc. (Worker) | Stafford, TX | 05/22/09 | 05/19/09
70465 | Ferraz Shawmut, LLC (Comp) | Newburyport, MA | 05/22/09 | 05/19/09
70466 | DMAX, LTD, LLC (Comp) | Dayton, OH | 05/22/09 | 05/20/09
70467 | Fortis Plastics, LLC (State) | Fort Smith, AR | 05/22/09 | 05/20/09
70468 | Bristol, Inc. (Comp) | Watertown, CT | 05/22/09 | 05/20/09
70469 | Datamatics Global Services, Inc. (Wkrs) | Burlington, MA | 05/22/09 | 05/18/09
70470 | Vetter Corp., North American Power Division/ERM Thermal Tech. (Worker) | Ontario, NY | 05/22/09 | 05/18/09
70471 | SpringBoard Technology Corporation (Comp) | Springfield, MA | 05/22/09 | 05/19/09
70472 | Modus Link Corporation (Wkrs) | Morrisville, NC | 05/22/09 | 05/20/09
70473 | USS Lorain Tubular Operations (USWA) | Lorain, OH | 05/22/09 | 05/21/09
70474 | Samuel Steel Pickling Co. (Worker) | Twinsburg, OH | 05/22/09 | 05/18/09
70475 | Foamade Industries, Inc. (Comp) | Auburn Hills, MI | 05/22/09 | 05/18/09
70476 | Rockford Corporation (Comp) | Walker, MI | 05/22/09 | 05/21/09
70477 | Dell USA LP (Worker) | Round Rock, TX | 05/22/09 | 05/18/09
70478 | Numonyx (Wkrs) | Santa Clara, CA | 05/22/09 | 05/21/09
70479 | Air Products and Chemicals (Comp) | Easton, PA | 05/22/09 | 05/21/09
70480 | Auto Truck Transport (IAMAW) | Portland, OR | 05/22/09 | 05/20/09
70481 | Kaiser Aluminum (Comp) | Richmond, VA | 05/22/09 | 05/21/09
70482 | Source Providers, Inc. (State) | Lansing, MI | 05/22/09 | 05/19/09
70483 | Novellus Systems Inc (Wkrs) | Boise, ID | 05/22/09 | 05/21/09
70484 | Virage Logic Corp. (Worker) | Hampton, NJ | 05/22/09 | 05/20/09
70485 | JJ Collins (State) | Charleston, IL | 05/22/09 | 05/18/09
70486 | Eclipse Manufacturing Company (Comp) | Pikeville, TN | 05/22/09 | 05/21/09
70487 | Greenbrier Rail Services (Worker) | Chicago Heights, IL | 05/22/09 | 05/20/09
70488 | Xenia Manufacturing (State) | Xenia, IL | 05/22/09 | 05/18/09
70489 | Pace Industries—Monroe City, Missouri Division (Comp) | Monroe City, MO | 05/22/09 | 05/21/09
70490 | Bright Wood Corporation (Comp) | Madras, OR | 05/22/09 | 05/20/09
70491 | Sipco, Inc. (Comp) | Meadville, PA | 05/22/09 | 05/20/09
70492 | Appleton Coated LLC (USWA) | Combined Locks, WI | 05/22/09 | 05/20/09
70493 | Hyatt Regency Albuquerque Downtown (Worker) | Albuquerque, NM | 05/22/09 | 05/18/09
70494 | Alliance Castings Co. LLC (Comp) | Alliance, OH | 05/22/09 | 05/21/09
70495 | Sipco, Inc. (Comp) | Saegertown, PA | 05/22/09 | 05/20/09
70496 | Tektronix, Inc. (State) | Beaverton, OR | 05/22/09 | 05/21/09
70497 | Victor Insulators, Inc. (Comp) | Victor, NY | 05/22/09 | 05/21/09
70498 | Munksjo Paper, Inc. (Comp) | Fitchburg, MA | 05/22/09 | 05/21/09
70499 | Solutia, Inc. (State) | Greenwood, SC | 05/22/09 | 05/19/09
70500 | Methode Electronics, Inc. (Comp) | Carthage, IL | 05/22/09 | 05/21/09
70501 | Cummins Power Generation (State) | Fridley, MN | 05/22/09 | 05/18/09
70502 | Spectrum Industrial Service (State) | Minneapolis, MN | 05/22/09 | 05/18/09
70503 | R and R Donnelley (State) | Long Prairie, MN | 05/22/09 | 05/18/09
70504 | Seagate Technology (State) | Bloomington, MN | 05/22/09 | 05/18/09

[FR Doc. E9-18664 Filed 8-4-09; 8:45 am]

BILLING CODE 4510-FN-P